DEPARTMENT OF DEFENSE

Department of the Air Force

32 CFR Part 903

[Docket ID: USAF-2019-HQ-0007]

RIN 0701-AA92

Air Force Academy Preparatory School

AGENCY: Department of the Air Force, DoD.

ACTION: Final rule.

SUMMARY: This final rule removes the regulation concerning how the Department of the Air Force accesses individuals into the Air Force Academy Preparatory School. This part is outdated, contains internal guidance, reiterates statutory law, and is otherwise subject to the military function exemption to rulemaking. Candidates to the preparatory school are individually provided with any relevant entrance information and the current policy is publically available on the department's website. Therefore, this part is unnecessary and can be removed from the CFR.

DATES: This rule is effective on February 24, 2020.

FOR FURTHER INFORMATION CONTACT: Dawn M.K. Zoldi at 719-333-7279.

SUPPLEMENTARY INFORMATION: This final rule removes 32 CFR part 903, “Air Force Academy Preparatory School,” which was originally published on March 8, 2007 (72 FR 10436) and most recently updated on February 21, 2008 (73 FR 9456). Part 903 part is outdated, contains internal guidance, reiterates statutory law, and is otherwise subject to the military function exemption to rulemaking. Current policy is provided individually to applicants and is contained in Air Force Manual 36-2032, Military Recruiting and Accessions, September 27, 2019, https://static.e-publishing.af.mil/production/1/af_a1/publication/afman36-2032/afman36-2032.pdf. Accordingly, this part is unnecessary and can be removed from the CFR.

It has been determined that publication of this CFR part removal for public comment is impracticable and contrary to the public interest because it is based on removing outdated and unnecessary content. This rule is not significant under Executive Order (E.O.) 12866, Sec 3, “Regulatory Planning and Review.” Therefore; E.O. 13771, “Reducing Regulation and Controlling Regulatory Costs,” does not apply.

List of Subjects in 32 CFR Part 903

Military academies, Military personnel.

PART 903—[REMOVED]

Accordingly, by the authority of 5 U.S.C. 301, 32 CFR part 903 is removed.

Adriane Paris,
Acting Air Force Federal Register Liaison Officer.

[FR Doc. 2020-02975 Filed 2-21-20; 8:45 am]

BILLING CODE 5001-10-P